ENVIRONMENTAL PROTECTION AGENCY

[FRL-9230-8]

Science Advisory Board Staff Office; Notification of Two Public Quality Review Teleconferences of the Chartered Science Advisory Board

AGENCY: Environmental Protection Agency (EPA).

ACTION: Notice.

SUMMARY: The EPA Science Advisory Board (SAB) Staff Office announces two public teleconferences of the chartered SAB: (a) A quality review of an SAB draft review of EPA's “Toxicological Review of Trichloroethylene” on December 15, 2010 and (b) a quality review of an SAB draft review of EPA's “Development of a Relative Potency Factor (RPF) Approach for Polycyclic Aromatic Hydrocarbon (PAH) Mixtures” on December 16, 2010.

DATES: The public teleconferences on December 15, 2010 and December 16, 2010 will both be held from 1 p.m. to 4 p.m. (Eastern Time).

ADDRESSES: The public teleconferences will be conducted by telephone only.

FOR FURTHER INFORMATION CONTACT: Any member of the public wishing to obtain general information concerning these public teleconferences should contact Dr. Thomas Armitage, Designated Federal Officer (DFO), EPA Science Advisory Board (1400F), 1200 Pennsylvania Avenue, NW., Washington, DC 20460; via telephone/voice mail (202) 564-2155; fax (202) 202-565-2098 or via e-mail at armitage.thomas@epa.gov. General information concerning the EPA Science Advisory Board can be found on the SAB Web site at http://www.epa.gov/sab.

SUPPLEMENTARY INFORMATION: Pursuant to the Federal Advisory Committee Act (FACA), 5 U.S.C., App. 2, notice is hereby given that the EPA Science Advisory Board will hold two public teleconferences to quality review two draft SAB reports: (1) A draft report peer reviewing EPA's draft assessment entitled “Toxicological Review of Trichloroethylene” (October 2009), and (2) a draft report peer reviewing EPA's draft document entitled “Development of a Relative Potency Factor (RPF) Approach for Polycyclic Aromatic Hydrocarbon (PAH) Mixtures” (November 10, 2010). The SAB was established pursuant to 42 U.S.C. 4365 to provide independent scientific and technical advice to the Administrator on the technical basis for Agency positions and regulations. The SAB is a Federal Advisory Committee under FACA. The SAB will comply with the provisions of FACA and all appropriate SAB Staff Office procedural policies.

Background: (1) Peer review of EPA's draft assessment entitled “Toxicological Review of Trichloroethylene” (October 2009). EPA's Office of Research and Development has developed a draft Integrated Risk Information System (IRIS) toxicological review for trichloroethylene (TCE) and has requested that the SAB conduct a peer review of its assessment. An SAB panel reviewed EPA's draft document in public session and developed a draft review report, which the chartered SAB will quality review on December 15, 2010. Background information about this advisory activity can be found on the SAB Web site at: http://yosemite.epa.gov/sab/sabproduct.nsf/fedrgstr_activites/IRIS-TCE?OpenDocument.

(2) Peer review of EPA's draft document entitled “Development of a Relative Potency Factor (RPF) Approach for Polycyclic Aromatic Hydrocarbon (PAH) Mixtures.” EPA's Office of Research and Development has developed a draft Integrated Risk Information System (IRIS) technical document describing the development of a relative potency factor (RPF) approach for polycyclic aromatic hydrocarbon (PAH) mixtures to assess cancer risk from exposure to PAH mixtures. EPA's Office of Research and Development has requested that the Science Advisory Board (SAB) conduct a review of this draft document. An SAB panel reviewed EPA's draft document in public session and developed a draft review report, which the chartered SAB will quality review on December 16, 2010. Background information about this advisory activity can be found on the SAB Web site at http://yosemite.epa.gov/sab/sabproduct.nsf/fedrgstr_activites/Human%20Health%20PAH%20Mixtures?OpenDocument.

Availability of Meeting Materials: The agenda and other materials in support of the teleconferences will be placed on the SAB Web site at http://www.epa.gov/sab in advance of the teleconferences.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a Federal advisory committee to consider as it develops advice for EPA. They should send their comments directly to the Designated Federal Officer for the relevant advisory committee. Oral Statements: In general, individuals or groups requesting time to make an oral presentation at a public SAB teleconference will be limited to three minutes, with no more than one-half hour for all speakers. Those interested in being placed on the public speakers list for either the December 15, 2010 teleconference or the December 16, 2010 teleconference should contact Dr. Armitage at the contact information provided above by December 8, 2010. Written Statements: Written statements should be received in the SAB Staff Office by December 8, 2010. Written statements should be supplied to the DFO via e-mail to armitage.thomas@epa.gov (acceptable file format: Adobe Acrobat PDF, WordPerfect, MS Word, MS PowerPoint, or Rich Text files in IBM-PC/Windows 98/2000/XP format). Submitters are asked to provide versions of each document submitted with and without signatures, because the SAB Staff Office does not publish documents with signatures on its Web sites.

Accessibility: For information on access or services for individuals with disabilities, please contact Dr. Armitage at the contact information provided above. To request accommodation of a disability, please contact him preferably at least 10 days prior to the teleconference, to give EPA as much time as possible to process your request.

Dated: November 16, 2010.
Anthony Maciorowski,
Deputy Director, EPA Science Advisory Board Staff Office.

[FR Doc. 2010-29636 Filed 11-23-10; 8:45 am]

BILLING CODE 6560-50-P